DEPARTMENT OF JUSTICE

Drug Enforcement Administration

Importer of Controlled Substances; Notice of Application

Pursuant to Title 21 Code of Federal Regulations 1301.34(a), this is notice that on April 23, 2007, Cambrex Charles City, Inc., 1205 11th Street, Charles City, Iowa 50616-3466, made application by letter to the Drug Enforcement Administration (DEA) for registration as an importer of the basic classes of controlled substances listed in schedules II:

Drug | Schedule
Thebaine (9333) | II
Raw Opium (9600) | II
Concentrate of Poppy Straw (9670) | II

The company plans to import the listed controlled substances for manufacture of active pharmaceutical ingredients for sale to its customers.

No comments, objections, or requests for any hearings will be received on any application for registration or re-registration to import crude opium, poppy straw, concentrate of poppy straw, and coca leaves.

Any bulk manufacturer who is presently, or is applying to be, registered with DEA to manufacture such basic classes of controlled substances listed in schedule I or II, which fall under the authority of section 1002(a)(2)(B) of the Act (21 U.S.C. 952(a)(2)(B)) may file comments or objections to the issuance of the proposed registration and may, at the same time, file a written request for a hearing on such application pursuant to 21 CFR 1301.43 and in such form as prescribed by 21 CFR 1316.47.

Any such comments or objections may be addressed, in quintuplicate, to the Drug Enforcement Administration, Office of Diversion Control, Federal Register Representative (ODL), Washington, DC 20537; or any being sent via express mail should be sent to Drug Enforcement Administration, Office of Diversion Control, Federal Register Representative (ODL), 2401 Jefferson-Davis Highway, Alexandria, Virginia 22301; and must be filed no later than July 20, 2007.

This procedure is to be conducted simultaneously with and independent of the procedures described in 21 CFR § 1301.34(b), (c), (d), (e) and (f). As noted in a previous notice published in the Federal Register on September 23, 1975, (40 FR 43745), all applicants for registration to import a basic class of any controlled substances in schedule I or II are and will continue to be required to demonstrate to the Deputy Assistant Administrator, Office of Diversion Control, Drug Enforcement Administration, that the requirements for such registration pursuant to 21 U.S.C. 958(a), 21 U.S.C. 823(a), and 21 CFR 1301.34(b), (c), (d), (e) and (f) are satisfied.

Dated: June 7, 2007.
Joseph T. Rannazzisi,
Deputy Assistant Administrator, Office of Diversion Control, Drug Enforcement Administration.

[FR Doc. E7-11915 Filed 6-19-07; 8:45 am]

BILLING CODE 4410-09-P